Title 3—

The President

Executive Order 13319 of December 3, 2003

Amendment to Executive Order 13183, Establishment of the President's Task Force on Puerto Rico's Status

By the authority vested in me as President by the Constitution and the laws of the United States of America, it is hereby ordered that Executive Order 13183 of December 23, 2000, as amended, is further amended as follows:

(1) Section 2 is amended by deleting the second and third sentences, and inserting in lieu thereof the following: “It shall be composed of designees of each member of the President's Cabinet and the Deputy Assistant to the President and Director for Intergovernmental Affairs. The Task Force shall be co-chaired by the Attorney General's designee and the Deputy Assistant to the President and Director for Intergovernmental Affairs.”

(2) By deleting section 4, and inserting in lieu thereof the following: “Sec. 4. Report. The Task Force shall report on its actions to the President as needed, but no less frequently than once every 2 years, on progress made in the determination of Puerto Rico's ultimate status.”

B

THE WHITE HOUSE,

December 3, 2003.

[FR Doc. 03-30513

Filed 12-5-03; 8:45 am]

Billing code 3195-01-P